DEPARTMENT OF COMMERCE

Patent and Trademark Office

Submission for OMB Review; Comment Request

The United States Patent and Trademark Office (USPTO) will submit to the Office of Management and Budget (OMB) for clearance the following proposal for collection of information under the provisions of the Paperwork Reduction Act (44 U.S.C. 35).

Agency: United States Patent and Trademark Office (USPTO).

Title: Patent Processing (Updating).

Form Number(s): PTO/SB/08a/08b, eIDS, PTO/SB/17i, PTO/SB/21-22, PTO/SB/24-27, PTO/AIA/22, PTO/SB/24B, PTO/AIA/24, PTO/AIA/24B, PTO/SB/30-33, PTO/AIA/31-33, PTO/SB/35-39, PTO/SB/43, PTO/SB/61, PTO/SB/63-64, PTO/SB/64a, PTO/SB/67-68, PTO/SB/91-92, PTO/SB/96-97, PTO/AIA/96, PTO/SB/130, PTO-2053-A/B, PTO-2054-A/B, PTO-2055-A/B, PTOL/413A & 413C, and EFS-Web.

Agency Approval Number: 0651-0031.

Type of Request: Revision of a currently approved collection.

Burden: 11,972,191 hours annually.

Number of Respondents: 4,827,580 responses per year, with an estimated 1,255,171 (26%) submitted by small entities.

Avg. Hours per Response: The USPTO estimates that it will take the public an average of 1 minute, 48 seconds (0.03 hours) to 10 hours to complete either the paper or the electronic versions of the information described in this submission, depending on the nature of the information. This estimated time includes gathering the necessary information, creating the documents, and submitting the completed requests to the USPTO.

Needs and Uses: During the pendency of a patent application or the period of enforceability of a patent, situations arise that require collection of information for the USPTO to further process the patented file or the patent application. This information can be used by the USPTO to continue the processing of the patent or application or to ensure that applicants are complying with the patent regulations. These situations involve responses filed by applicants to various USPTO actions and may include information disclosures and citations; requests for extensions of time; the establishment of small entity status; abandonment or revival of abandoned applications; disclaimers; appeals; expedited examination of design applications; transmittal forms; requests to inspect, copy and access patent applications; publication requests; and certificates of mailing/transmission.

Affected Public: Individuals or households; businesses or other for-profits; and non-profit institutions.

Frequency: On occasion.

Respondent's Obligation: Required to obtain or retain benefits.

OMB Desk Officer: Nicholas A. Fraser, email: Nicholas_A._Fraser@omb.eop.gov.

Once submitted, the request will be publicly available in electronic format through the Information Collection Review page at www.reginfo.gov.

Paper copies can be obtained by:

• Email: InformationCollection@uspto.gov. Include “0651-0031 copy request” in the subject line of the message.

• Mail: Susan K. Fawcett, Records Officer, Office of the Chief Information Officer, United States Patent and Trademark Office, P.O. Box 1450, Alexandria, VA 22313-1450.

Written comments and recommendations for the proposed information collection should be sent on or before February 28, 2013 to Nicholas A. Fraser, OMB Desk Officer, via email to Nicholas_A._Fraser@omb.eop.gov, or by fax to 202-395-5167, marked to the attention of Nicholas A. Fraser.

Dated: January 23, 2013.
Susan K. Fawcett,
Records Officer, USPTO, Office of the Chief Information Officer.

[FR Doc. 2013-01736 Filed 1-28-13; 8:45 am]

BILLING CODE 3510-16-P